DEPARTMENT OF HEALTH AND HUMAN SERVICES

Centers for Disease Control and Prevention

Advisory Committee on Immunization Practices; Cancellation of Meeting

AGENCY: Centers for Disease Control and Prevention (CDC), Department of Health and Human Services (HHS).

ACTION: Notice.

SUMMARY: This is to notify the public that the February 26-28, 2025, meeting of the Advisory Committee on Immunization Practices (ACIP) was cancelled and will be rescheduled.

FOR FURTHER INFORMATION CONTACT: Stephanie Thomas, Committee Management Specialist, Advisory Committee on Immunization Practices, National Center for Immunization and Respiratory Diseases, Centers for Disease Control and Prevention, 1600 Clifton Road NE, Mailstop H24-8, Atlanta, Georgia 30329-4027. Telephone: (404) 639-8367; Email: ACIP@cdc.gov.

SUPPLEMENTARY INFORMATION: Notice is hereby given of a change in the meeting of the Advisory Committee on Immunization Practices; February 26, 2025, from 8 a.m. to 5:10 p.m., EST, February 27, 2025, from 8 a.m. to 5 p.m., EST, and February 28, 2025, from 8 a.m. to 11:25 a.m., EST, in the original Federal Register notice.

The meeting notice was published in the Federal Register on January 10, 2025, 90 FR 2002 and 2003.

This meeting will be rescheduled and will accommodate a new public comment period in advance of the meeting.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2025-03486 Filed 3-4-25; 8:45 am]

BILLING CODE 4163-18-P